DEPARTMENT OF THE INTERIOR

Bureau of Land Management

[LL WO31000.L13100000.PB0000.24 1E]

Extension of Approved Information Collection; OMB Control No. 1004-0162

AGENCY: Bureau of Land Management, Interior

ACTION: Notice and request for comments.

SUMMARY: In accordance with the Paperwork Reduction Act of 1995, the Bureau of Land Management (BLM) requests that the Office of Management and Budget (OMB) extend an existing approval to collect information from entities which conduct geophysical operations on lands managed by the BLM or by the U.S. Forest Service (FS). The Office of Management and Budget (OMB) has assigned control number 1004-0162 to this information collection.

DATES: Please submit your comments to the BLM at the address below on or before February 13, 2012.

ADDRESSES: You may submit comments by mail, fax, or electronic mail.

Mail: U.S. Department of the Interior, Bureau of Land Management, 1849 C Street, NW., Room 2134LM, Attention: Jean Sonneman, Washington, DC 20240.

Fax: to Jean Sonneman at (202) 245-0050.

Electronic mail: Jean_Sonneman@blm.gov.

Please indicate “Attn: 1004-0162” regardless of the form of your comments.

FOR FURTHER INFORMATION CONTACT: Barbara Gamble, Division of Fluid Minerals, at (202) 912-7148 (Commercial or FTS). Persons who use a telecommunications device for the deaf (TDD) may call the Federal Information Relay Service (FIRS) on 1 (800) 877-8330 to leave a message for Ms. Gamble.

SUPPLEMENTARY INFORMATION: OMB regulations at 5 CFR 1320, which implement provisions of the Paperwork Reduction Act (44 U.S.C. 3501-3521) require that interested members of the public and affected agencies be given an opportunity to comment on information collection and recordkeeping activities (see 5 CFR 1320.8 (d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Onshore Oil and Gas Geophysical Exploration (43 CFR Part 3150 and 36 CFR Parts 228 and 251).

Forms:

• BLM Form 3110-4/FS Form 2800-16, Notice of Intent and Authorization to Conduct Oil and Gas Geophysical Exploration Operations; and

• BLM Form 3110-5/FS Form 2800-16a, Notice of Completion of Oil and Gas Geophysical Exploration Operations.

OMB Control Number: 1004-0162.

Abstract: The BLM and FS collect this information in order to ensure that geophysical exploration is conducted in a manner consistent with statutes, regulations, land use plans, and environmental documents.

Frequency of Collection: On occasion.

Estimated Number and Description of Respondents: 1353 entities undertaking oil and gas geophysical exploration, i.e., activity relating to the search for evidence of oil and gas on lands managed by the BLM or the FS.

Estimated Reporting and Recordkeeping “Hour” Burden: 836 hours.

The following table details the individual components and respective hour burdens of this information collection request:

A. Type of response | B. Number of responses | C. Time per response | D. Total hours (Column B × Column C)
Notice of Intent and Request to Conduct Geophysical Exploration Operations | 625 | 1 hour | 625
43 CFR 3151.1 and 3152.1
BLM Form 3150-4/FS Form 2800-16
Notice of Completion of Geophysical Exploration Operations | 625 | 20 minutes | 208
43 CFR 3151.2 and 3152.7
BLM Form 3150-5/FS Form 2800-16a
Data and Information Obtained in Carrying Out Exploration Plan | 3 | 1 hour | 3
43 CFR 3152.6
Totals | 1353 |  | 836

Before including your address, telephone number, email address, or other personal identifying information in your comments, be advised that your entire comment—including your personal identifying information—may be made publicly available at any time. While you can ask in your comment to withhold from public review your personal identifying information, we cannot guarantee that we will be able to do so.

Jean Sonneman,
Bureau of Land Management, Information Collection Clearance Officer.

[FR Doc. 2011-31991 Filed 12-12-11; 8:45 am]

BILLING CODE 4310-84-P